ENVIRONMENTAL PROTECTION AGENCY

40 CFR Part 52

[EPA-R10-OAR-2015-0681; FRL-9936-01-Region 10]

Approval and Promulgation of Implementation Plans; Designation of Areas for Air Quality Planning Purposes; Idaho; Reclassification as Serious Nonattainment for the 2006 Fine Particulate Matter Standards

AGENCY: Environmental Protection Agency (EPA).

ACTION: Proposed rule.

SUMMARY: The Environmental Protection Agency (EPA) is proposing to reclassify to Serious the Franklin County, Idaho portion of the multi-state Logan, Utah/Franklin county, Idaho nonattainment area (Logan UT/ID area) for the 2006 24-hour fine particulate matter (PM2.5) National Ambient Air Quality Standards (NAAQS). Our proposal is based on the EPA's determination that the Logan, UT/ID area cannot practicably attain the 2006 PM2.5 NAAQS by the applicable Moderate area attainment date of December 31, 2015. Should the EPA finalize reclassification of the area to Serious, Idaho will be required to submit an updated emissions inventory, Best Available Control Measures (BACM)/Best Available Control Technology (BACT), and revisions to its Nonattainment New Source Review (NNSR) program within 18 months. The attainment demonstration and the remaining Serious area nonattainment plan elements will be due no later than three years after the effective date of the final action or December 31, 2018, whichever is earlier. Upon reclassification as Serious, the Logan, UT/ID PM2.5 nonattainment area will be required to attain the standard as expeditiously as practicable, but no later than December 31, 2019.

DATES: Comments must be received on or before December 9, 2015.

ADDRESSES: Submit your comments, identified by Docket ID No. EPA-R10-OAR-2015-0681, by any of the following methods:

A. www.regulations.gov: Follow the on-line instructions for submitting comments.

B. Mail: Jeff Hunt, EPA Region 10, Office of Air, Waste and Toxics (AWT-150), 1200 Sixth Avenue, Suite 900, Seattle WA, 98101

C. Email: R10-Public_Comments@epa.gov

D. Hand Delivery: EPA Region 10 Mailroom, 9th Floor, 1200 Sixth Avenue, Suite 900, Seattle WA, 98101. Attention: Jeff Hunt, Office of Air, Waste and Toxics, AWT—150. Such deliveries are only accepted during normal hours of operation, and special arrangements should be made for deliveries of boxed information

Instructions: Direct your comments to Docket ID No. EPA-R10-OAR-2015-0681. The EPA's policy is that all comments received will be included in the public docket without change and may be made available online at www.regulations.gov, including any personal information provided, unless the comment includes information claimed to be Confidential Business Information (CBI) or other information the disclosure of which is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the electronic docket are listed in the www.regulations.gov index. Although listed in the index, some information is not publicly available, i.e., CBI or other information the disclosure of which is restricted by statute. Certain other material, such as copyrighted material, is not placed on the Internet and will be publicly available only in hard copy form. Publicly available docket materials are available either electronically in www.regulations.gov or in hard copy during normal business hours at the Office of Air, Waste and Toxics, EPA Region 10, 1200 Sixth Avenue, Seattle WA, 98101.

FOR FURTHER INFORMATION CONTACT: Jeff Hunt at (206) 553-0256, hunt.jeff@epa.gov, or by using the above EPA, Region 10 address.

SUPPLEMENTARY INFORMATION: Throughout this document wherever “we”, “us” or “our” are used, it is intended to refer to the EPA.

I. Background

Under 40 CFR 51.1000, the EPA defines the PM2.5 design value, the metric used for determining compliance with the 2006 24-hour PM2.5 NAAQS, as the highest three-year average of annual 98th percentile concentrations calculated for any ambient air quality monitor in a nonattainment area. In the case of the multi-state Logan UT/ID area, the air quality monitor with the highest design value is the Logan, Utah monitor (Air Quality System ID number 490050004) with a 2012-2014 design value of 45 micrograms per cubic meter (µg/m³). In a companion proposal for the Utah portion of the Logan UT/ID nonattainment area (docket number EPA-R08-OAR-2015-0342), EPA Region 8 shows that it is impracticable for the Logan UT/ID area to attain the 2006 24-hour NAAQS by the end of 2015. Under CAA section 188, any reclassification of a Moderate PM2.5 nonattainment area to Serious applies to the entire nonattainment area, with no option for a partial reclassification based on political jurisdiction or state boundaries. Therefore, EPA Region 10 is proposing to reclassify the Franklin County, Idaho portion of the area to Serious at the same time that the EPA is proposing to reclassify the Logan, UT portion of the area to Serious.

The EPA Region 8 proposal also explains the conditions under which the EPA may grant a series of two one-year extensions of the Moderate area attainment date in accordance with CAA section 188(d). If Utah and Idaho request an extension of the Moderate area attainment date for the Logan, UT/ID area before the EPA finalizes this discretionary reclassification, the EPA may decide not to finalize this proposed reclassification. If the EPA then acts on the States' extension request, the EPA will do so through a separate notice-and-comment rulemaking. In this proposed reclassification, we are neither proposing nor requesting comment on a potential extension.

II. Proposed Action

Pursuant to CAA section 188(b)(1), the EPA is proposing to reclassify the Franklin County portion of the Logan, UT/ID area as a Serious nonattainment area for the 2006 PM2.5 NAAQS based on the Agency's determination that the area cannot practicably attain by the Moderate area attainment date of December 31, 2015. Consistent with the EPA Region 8 companion proposal under docket number EPA-R08-OAR-2015-0342 for the Logan, Utah portion of the area, upon final reclassification as a Serious nonattainment area, Idaho will be required to submit, within 18 months after the effective date of reclassification, an updated emissions inventory, BACM/BACT for emissions sources in the area, and revisions to its NNSR program. The attainment demonstration and the remaining Serious area nonattainment plan elements will be due no later than three years after the effective date of the final action, or December 31, 2018, whichever is earlier. Upon reclassification as Serious, the Logan UT/ID area will be required to attain the standard as expeditiously as practicable, but no later than December 31, 2019.

III. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• is not a “significant regulatory action” subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to the requirements of Section 12(d) of the National Technology Transfer and Advancement Act of 1995 (15 U.S.C. 272 note) because this action does not involve technical standards; and

• does not provide the EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because it will not impose substantial direct costs on tribal governments or preempt tribal law. The SIP is not approved to apply in Indian reservations in the state or any other area where the EPA or an Indian tribe has demonstrated that a tribe has jurisdiction.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: October 7, 2015.
Dennis J. McLerran,
Regional Administrator, Region 10.

[FR Doc. 2015-28358 Filed 11-6-15; 8:45 am]

BILLING CODE 6560-50-P